DEPARTMENT OF DEFENSE

Department of the Army

Armed Forces Epidemiological Board; Meeting

AGENCY: Department of the Army; DoD.

ACTION: Notice of meeting.

SUMMARY: In accordance with section 10(a)(2) of the Public Law 92-463, The Federal Advisory Committee Act, announcement is made of the following meeting:

Name of Committee: Armed Forces Epidemiological Board (AFEB).

Dates: December 6, 2005 (Open meeting). December 7, 2005 (Open meeting).

Times: 8 a.m.-5 p.m. (December 6, 2005). 8 a.m.-3 p.m. (December 7, 2005).

Location: The Pope Club, 5504 Reilly Street, Ft. Bragg, North Carolina 28307-5217.

Agenda: The purpose of the meeting is to address pending and new Board issues, provide briefings for Board members on Topics related to ongoing and new Board issues, conduct subcommittee meetings. and conduct an executive working session.

FOR FURTHER INFORMATION CONTACT: Colonel Roger Gibson, Executive Secretary, Armed Forces Epidemiological Board, Skyline Six, 5109 Leesburg Pike, Room 682, Falls Church, VA 22041-3258, (703) 681-8012/3.

SUPPLEMENTARY INFORMATION: The entire sessions on December 6, 2005 and December 7, 2005 will be open to the public in accordance with section 552b(b) of Title 5, U.S.C., specifically subparagraph (1) thereof and Title 5, U.S.C., appendix 1, subsection10(d). Open sessions of the meeting will be limited by space accommodations. Any interested person may attend, appear before or file statements with the Board at the time and in the manner permitted by the Board.

Brenda S. Bowen,
Army Federal Register Liaison Officer.

[FR Doc. 05-22093 Filed 11-4-05; 8:45 am]

BILLING CODE 3710-08-M